DEPARTMENT OF DEFENSE

Defense Threat Reduction Agency; Privacy Act of 1974; Systems of Records

AGENCY: Defense Threat Reduction Agency.

ACTION: Notice to amend a system of records; HDTRA 014 Student Records.

SUMMARY: The Defense Threat Reduction Agency is amending a system of records notice to its existing inventory of record systems subject to the Privacy Act of 1974 (5 U.S.C. 552a), as amended.

DATES: This proposed action will be effective without further notice on September 6, 2005 unless comments are received that would result in a contrary determination.

ADDRESSES: Send comments to the General Counsel, Defense Threat Reduction Agency, 8725 John J. Kingman Road, Fort Belvoir, VA 22060-6201.

FOR FURTHER INFORMATION CONTACT: Ms. Brenda Carter at (703) 325-1205.

SUPPLEMENTARY INFORMATION: The Defense Threat Reduction Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: August 1, 2005.
Jeannette Owings-Ballard,
OSD Federal Register Liaison Officer, Department of Defense.

HDTRA 014

System name:

Student Records (December 14, 1998, 63 FR 68736).

Changes:

* * * * *

Authority for maintenance of the system:

Delete entry and replace with “5 U.S.C. 301, Departmental Regulations; 5 U.S.C. 4103, Establishment of Training Programs; and E.O. 9397 (SSN).”

* * * * *

System manager(s) and address

Delete entry and replace with “Commandant, Defense Nuclear Weapons School, Defense Threat Reduction Agency, 1900 Wyoming Boulevard SE., Kirtland Air Force Base, NM 87117-5669.”

Notification procedure

Delete address and replace with “General Counsel, Defense Threat Reduction Agency, 8725 John J. Kingman Road, Fort Belvoir, VA 22060-6201.”

Record access procedures

Delete address and replace with “General Counsel, Defense Threat Reduction Agency, 8725 John J. Kingman Road, Fort Belvoir, VA 22060-6201.”

Contesting record procedures

Delete address and replace with “General Counsel, Defense Threat Reduction Agency, 8725 John J. Kingman Road, Fort Belvoir, VA 22060-6201.”

* * * * *

HDTRA 014

System name:

Student Records

System location:

Defense Nuclear Weapons School, Defense Threat Reduction Agency, 1900 Wyoming Boulevard SE, Kirtland Air Force Base, Albuquerque, NM 87117-5669.

Categories of individuals covered by the system:

Any student attending the Defense Nuclear Weapons School.

Categories of records in the system:

Student academic records consisting of course completion; locator information; and related information.

Authority for maintenance of the system:

5 U.S.C. 301, Departmental Regulations; 5 U.S.C. 4103, Establishment of Training Programs; and E.O. 9397 (SSN).

Purpose(s):

To determine applicant eligibility, as a record of attendance and training, completion or elimination, as a locator, and a source of statistical information.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: The ‘Blanket Routine Uses’ published at the beginning of DTRA's compilation of systems of records notices apply to this system.

Policies and practices for storing, retrieving, accessing, retaining, and disposing of records in the system:

Storage:

Maintained in paper files and on computer media.

Retrievability:

Information may be retrieved by name or Social Security Number.

Safeguards:

Records and computer printouts are available only to authorized persons with an official need to know. The files are in a secure office area with limited access during duty hours. The office is locked during non-duty hours.

Retention and disposal:

Individual academic records are retained for 75 years. Records are maintained at the school for five years, then subsequently retired to the Federal Records Center, Fort Worth, TX for the remaining 70 years and then destroyed.

System manager(s) and address:

Commandant, Defense Nuclear Weapons School, Defense Threat Reduction Agency, 1900 Wyoming Boulevard SE, Kirtland Air Force Base, NM 87117-5669.

Notification procedure:

Individuals seeking to determine whether information about themselves is contained in this system should address written inquiries to General Counsel, Defense Threat Reduction Agency, 8725 John J. Kingman Road, Fort Belvoir, VA 22060-6201.

Individuals should provide their name, Social Security Number, current address, and proof of identity (photo identification for in person access).

Record access procedures:

Individuals seeking access to information about themselves contained in this system should address written inquiries to the General Counsel, Defense Threat Reduction Agency, 8725 John J. Kingman Road, Fort Belvoir, VA 22060-6201.

Individuals should provide name, Social Security Number, current address, and sufficient information to permit locating the record.

For personal visits, the individual should provide military or civilian identification card.

Contesting record procedures:

The DTRA rules for accessing records and for contesting contents and appealing initial agency determinations are published in DTRA Instruction 5400.11B; 32 CFR part 318; or may be obtained from the General Counsel, Defense Threat Reduction Agency, 8725 John J. Kingman Road, Fort Belvoir, VA 22060-6201.

Record source categories:

From the individual.

Exemptions claimed for the system:

None.

[FR Doc. 05-15457 Filed 8-4-05; 8:45 am]

BILLING CODE 5001-06-P